DEPARTMENT OF THE INTERIOR

National Park Service

[N6395; NPS-WASO-NAGPRA-NPS0040767; PPWOCRADN0-PCU00RP14.R50000]

Notice of Inventory Completion: University of California, Berkeley, Berkeley, CA, and U.S. Department of the Interior, Bureau of Land Management, California State Office, Sacramento, CA

AGENCY: National Park Service, Interior.

ACTION: Notice.

SUMMARY: In accordance with the Native American Graves Protection and Repatriation Act (NAGPRA), the University of California, Berkeley (UC Berkeley) and the U.S. Department of the Interior, Bureau of Land Management, California State Office (BLM CA) have completed an inventory of human remains and associated funerary objects and has determined that there is a cultural affiliation between the human remains and associated funerary objects and Indian Tribes or Native Hawaiian organizations in this notice.

DATES: Repatriation of the human remains and associated funerary objects in this notice may occur on or after September 4, 2025.

ADDRESSES: Send written requests for repatriation of the human remains and associated funerary objects in this notice to Alexandra Lucas, Government and Community Relations, Office of the Chancellor, University of California, Berkeley, 200 California Hall, Berkeley, CA 94720, email nagpra-ucb@berkeley.edu, and Amy Girado, Bureau of Land Management, California State Office, 2800 Cottage Way, Suite W1623, Sacramento, CA 95825, email blm_ca_nagpra@blm.gov.

SUPPLEMENTARY INFORMATION: This notice is published as part of the National Park Service's administrative responsibilities under NAGPRA. The determinations in this notice are the sole responsibility of the UC Berkeley and BLM CA, and additional information on the determinations in this notice, including the results of consultation, can be found in its inventory or related records. The National Park Service is not responsible for the determinations in this notice.

Abstract of Information Available

In Kern County, California near the shore of Goose Lake, between 1922 and 1956, ancestral remains of at least one individual and 123 associated funerary belongings were removed by various individuals from site CA-Ker-37.

Between 1923 and 1924, ancestral remains representing at least 17 individuals and 45 associated funerary belongings were removed from site CA-Ker-38. These ancestors and belongings were subsequently held by the Robert H. Lowie Museum of Anthropology, which is now the Phoebe A. Hearst Museum of Anthropology at the University of California, Berkeley.

This notice is submitted jointly by the UC Berkeley and the BLM CA. The lands from which these ancestors and associated belongings originated, situated within the ancestral homelands of the Yokuts people, were under the jurisdiction of the General Land Office (GLO) until June 20, 1927. The BLM assumes responsibility for the GLO following the creation of the BLM in 1946.

Collections and collection spaces at the Phoebe A. Hearst Museum of Anthropology were historically treated with substances for preservation and pest control, some of which may have been hazardous. As of this writing, no records have been located to confirm whether such substances were used prior to 1960.

Cultural Affiliation

Based on the information available and the results of consultation, cultural affiliation is reasonably identified by the geographical location or acquisition history of the human remains and associated funerary objects described in this notice.

Determinations

UC Berkeley and BLM CA have determined that:

• The human remains described in this notice represent the physical remains of 18 individuals of Native American ancestry.

• The 168 objects described in this notice are reasonably believed to have been placed intentionally with or near individual human remains at the time of death or later as part of the death rite or ceremony.

• There is a connection between the human remains and associated funerary objects described in this notice and the Picayune Rancheria of Chukchansi Indians of California; Santa Rosa Indian Community of the Santa Rosa Rancheria, California; Table Mountain Rancheria; Tejon Indian Tribe; and the Tule River Indian Tribe of the Tule River Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 4, 2025. If competing requests for repatriation are received, the UC Berkeley and BLM CA must determine the most appropriate requestor prior to repatriation. Requests for joint repatriation of the human remains and associated funerary objects are considered a single request and not competing requests. The UC Berkeley and BLM CA is responsible for sending a copy of this notice to the Indian Tribes and Native Hawaiian organizations identified in this notice and any other consulting parties.

Authority: Native American Graves Protection and Repatriation Act, 25 U.S.C. 3003, and the implementing regulations, 43 CFR 10.10.

Dated: July 28, 2025.
Melanie O'Brien,
Manager, National NAGPRA Program.

[FR Doc. 2025-14795 Filed 8-4-25; 8:45 am]

BILLING CODE 4312-52-P